DEPARTMENT OF HOMELAND SECURITY

Federal Emergency Management Agency

[Docket ID FEMA-2017-0002; Internal Agency Docket No. FEMA-B-1752]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: September 27, 2017.
Roy E. Wright,
Deputy Associate Administrator for Insurance and Mitigation, Department of Homeland Security, Federal Emergency Management Agency.

State and county | Location and case No. | Chief executive officer of community | Community map repository | Online location of letter of map revision | Date of modification | Community No.
Arizona: Cochise | Unincorporated Areas of Cochise County, (17-09-1682P) | The Honorable Ann English, Chair, Board of Supervisors, Cochise County, 1415 West Melody Lane, Building G, Bisbee, AZ 85603 | Cochise County Flood Control District, 1415 West Melody Lane Building F, Bisbee, AZ 85603 | http://www.msc.fema.gov/lomc | Dec. 27, 2017 | 040012
California:
Santa Clara | City of Gilroy, (16-09-2429P) | The Honorable Roland Velasco, Mayor, City of Gilroy, City Hall, 7351 Rosanna Street, Gilroy, CA 95020 | Public Works Department, 7351 Rosanna Street, Gilroy, CA 95020 | http://www.msc.fema.gov/lomc | Jan. 8, 2018 | 060340
Santa Clara | Unincorporated Areas of Santa Clara County, (16-09-2429P) | The Honorable Dave Cortese, Chairman, Board of Supervisors, Santa Clara County, 70 West Hedding Street, East Wing, 10th Floor, Santa Jose, CA 95110 | Office of Planning, 70 West Hedding Street, San Jose, CA 95110 | http://www.msc.fema.gov/lomc | Jan. 8, 2018 | 060337
Ventura | City of Fillmore, (16-09-2533P) | The Honorable Carrie Broggie, Mayor, City of Fillmore, 250 Central Avenue, Fillmore, CA 93015 | City Hall, 250 Central Avenue, Fillmore, CA 93015 | http://www.msc.fema.gov/lomc | Dec. 29, 2017 | 060415
Ventura | Unincorporated Areas of Ventura County, (16-09-2533P) | The Honorable John C. Zaragoza, Chairman, Board of Supervisors, Ventura County, 800 South Victoria Avenue, Ventura, CA 93009 | Ventura County Hall of Administration, 800 South Victoria Avenue, Ventura, CA 93009 | http://www.msc.fema.gov/lomc | Dec. 29, 2017 | 060413
Idaho: Blaine | Unincorporated Areas of Blaine County, (17-10-0681P) | The Honorable Jacob Greenberg, Commissioner, Blaine County, 206 1st Avenue South, Suite 300, Hailey, ID 83333 | Blaine County Planning & Zoning, 219 1st Avenue South, Suite 208, Hailey, ID 83333 | http://www.msc.fema.gov/lomc | Dec. 28, 2017 | 165167
Missouri: Cass | City of Belton, (17-07-0605P) | The Honorable Jeff Davis, Mayor, City of Belton, Belton City Hall, 506 Main Street, Belton, MO 64012 | City Hall Annex, 520 Main Street, Belton, MO 64012 | http://www.msc.fema.gov/lomc | Jan. 2, 2018 | 290062
Nevada: Clark | Unincorporated Areas of Clark County, (17-09-0607P) | The Honorable Steve Sisolak, Chairman, Board of Supervisors, Clark County, 500 South Grand Central Parkway, 6th Floor, Las Vegas, NV 89106 | Office of the Director of Public Works, 500 South Grand Central Parkway, Las Vegas, NV 89155 | http://www.msc.fema.gov/lomc | Dec. 26, 2017 | 320003
New Jersey:
Bergen | Borough of New Milford, (17-02-0405P) | The Honorable Ann Subrizi, Mayor, Borough of New Milford, New Milford Borough Hall, 930 River Road, New Milford, NJ 07646 | Borough Hall, 930 River Road, New Milford, NJ 07646 | http://www.msc.fema.gov/lomc | Jan. 5, 2018 | 340054
Bergen | Township of Teaneck, (17-02-0405P) | The Honorable Mohammed Hameeduddin, Mayor, Township of Teaneck, Teaneck Municipal Building, 818 Teaneck Road, Teaneck, NJ 07666 | Teaneck Municipal Building, 818 Teaneck Road, Teaneck, NJ 07666 | http://www.msc.fema.gov/lomc | Jan. 5, 2018 | 340075
New York:
Suffolk | Town of Southold, (17-02-1400P) | Mr. Scott A. Russell, Town Supervisor, Town of Southold, 53095 Main Road, Southold, NY 11971 | Town Hall, 53095 Route 25, Southold, NY 11971 | http://www.msc.fema.gov/lomc | Feb. 16, 2018 | 360813
Tioga | Town of Nichols, (17-02-0953P) | Mr. Kevin K. Engelbert, Supervisor, Town of Nichols, P.O. Box 359, Nichols, NY 13812 | Town Hall, 54 East River Road, Nichols, NY 13812 | http://www.msc.fema.gov/lomc | Feb. 16, 2018 | 360837
Tioga | Village of Nichols, (17-02-0953P) | The Honorable Leslie Pelotte, Mayor, Village of Nichols, P.O. Box 142, Nichols, NY 13812 | Village Hall, 17 Kirby Street, Nichols, NY 13812 | http://www.msc.fema.gov/lomc | Feb. 16, 2018 | 360838
Ohio: Montgomery | City of West Carrollton, (16-05-4433P) | The Honorable Jeff Sanner, Mayor, City of West Carrollton, 300 East Central Avenue, West Carrollton, OH 45449 | Civic Center, 300 East Central Avenue, West Carrollton, OH 45449 | http://www.msc.fema.gov/lomc | Dec. 28, 2017 | 390419
Texas: Dallas | City of Coppell, (17-06-2181P) | The Honorable Karen Hunt, Mayor, City of Coppell, 255 East Parkway Boulevard, Coppell, TX 75019 | City Engineering Department, 255 Parkway Boulevard, Coppell, TX 75019 | http://www.msc.fema.gov/lomc | Jan. 2, 2018 | 480170
Washington:
King | City of North Bend, (17-10-0730P) | The Honorable Kenneth G. Hearing, Mayor, City of North Bend, 211 Main Avenue North, North Bend, WA 98045 | Planning Department, 126 East 4th Street, North Bend, WA 98045 | http://www.msc.fema.gov/lomc | Jan. 8, 2018 | 530085
King | Unincorporated Areas of King County, (17-10-0730P) | The Honorable Dow Constantine, County Executive, King County, 401 5th Avenue, Suite 800, Seattle, WA 98104 | Department of Water and Land Resources, 201 South Jackson Street, Suite 600, Seattle, WA 98055 | http://www.msc.fema.gov/lomc | Jan. 8, 2018 | 530071

[FR Doc. 2017-22019 Filed 10-11-17; 8:45 am]

BILLING CODE 9110-12-P